DEPARTMENT OF THE INTERIOR

Bureau of Land Management

[OR932-6334-DF-062H; HAG-0125]

Notice of Intent (NOI) To Prepare an Environmental Impact Statement (EIS) for Vegetation Treatments Using Herbicides on BLM Lands in Oregon

AGENCY: USDI, Bureau of Land Management (BLM) Oregon/Washington State Office.

ACTION: Notice of Intent To Prepare an Environmental Impact Statement (EIS).

SUMMARY: In accordance with Section 102(2)(C) of the National Environmental Policy Act of 1969 (NEPA), the BLM in Oregon is beginning preparation of a programmatic Environmental Impact Statement (EIS) to analyze the use of 18 nationally approved herbicides to control noxious weeds; to treat invasive plants and other weeds in administrative sites, recreation sites, and rights-of-way; to treat forest pests and diseases; and to meet non-commodity landscape health objectives across nine BLM Districts in Oregon.

This EIS will tier to, and adopt procedures from, the programmatic Vegetation Treatments Using Herbicides on BLM Lands in 17 Western States EIS and Record of Decision (ROD) completed by the BLM in 2007 for the same 18 herbicides. The EIS will not amend existing District Resource Management Plans (RMPs).

DATES: Publication of this notice initiates a scoping period that runs through July 28, 2008. Written or e-mailed comments are being sought to help identify the relevant issues and environmental concerns, identify possible alternatives, and help determine the scope of the EIS. During the scoping period, the BLM will hold public scoping meetings in Oregon, at or near each of the nine BLM District Offices and in Klamath Falls and Baker City, to describe the proposal and solicit ideas for issues and alternatives to be considered in the EIS. Times and locations are included in SUPPLEMENTARY INFORMATION below and will be announced through local press releases, advertisements, and the project Web site.

FOR FURTHER INFORMATION CONTACT: For further information, to be placed on the mailing list, or to provide written comments, send e-mail to ORVegTreatments@blm.gov or contact Ken Denton, EIS Team Leader, OR/WA Bureau of Land Management-932, PO Box 2965, Portland, OR 97208; telephone (503) 808-6443. Additional information is also available on the project Web site at: http://www.blm.gov/or/plans/vegtreatmentseis.

Comments received will be available for public inspection at the Bureau of Land Management Oregon State Office reading room, located at 333 SW. First St., Portland, OR 97204. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and any participant who wishes to clarify the views he or she expressed may do so through the end of the scoping period.

SUPPLEMENTARY INFORMATION: BLM manages 15.7 million acres in Oregon. Invasive plants (including noxious weeds) affect over a million of these acres and are increasing at an estimated 10 to 15 percent per year. Invasive plants degrade soil and water quality, displace native vegetation, and negatively alter habitat for fish and wildlife. Noxious weeds, invasive plants, and other weeds also encroach on rights-of-ways and administrative and recreation sites. Currently, the BLM utilizes an integrated pest management approach for invasive plant and other weed management; which includes education, early detection and prevention measures, as well as manual, mechanical, cultural, biological, and chemical vegetation controls. However, chemical control on BLM lands in Oregon is currently limited to the use of four approved herbicides, and those are limited to treatment of federal-, state-, and county-designated noxious weeds (a subset of the invasive plants).

To improve the overall effectiveness of Oregon BLM's integrated pest management program, there is a need for access to a broader array of herbicides that are generally less toxic, more target-specific, and more effective at controlling noxious weeds, invasive plants, and other weeds.

The BLM in Oregon will analyze the use of up to 18 herbicide active ingredients approved for use in the national Vegetation Treatments Using Herbicides on BLM Lands in 17 Western States EIS and ROD completed by the BLM in 2007. The purpose of the Oregon EIS is to:

• Evaluate the effects of using up to 18 nationally approved herbicide active ingredients for treatment of noxious weeds; for treatment of invasive vegetation and other weeds in administrative sites, recreation sites, and rights-of-way; for treatment of forest pests and diseases; and to achieve non-commodity landscape health objectives.

• Incorporate the Risk Assessments, Standard Operating Procedures, and Mitigation Measures for herbicide application outlined in the National Programmatic EIS.

• Provide the necessary context and analysis of environmental effects that will enable each of the nine BLM Districts in Oregon to prepare National Environmental Policy Act (NEPA) analyses on site-specific projects and treatments.

The EIS will not evaluate herbicide use directed specifically at commodity production such as livestock forage production and timber production.

The National Programmatic EIS and Environmental Report completed in 2007 for the 17 western states (http://www.blm.gov/wo/st/en/prog/more/veg_eis.html ) provided a programmatic analysis of the effects of using herbicides for treating vegetation on BLM lands in the western U.S., including Alaska. That EIS did not specifically address which herbicides, and in what quantities, would be used in Oregon. The Oregon EIS will tier to the National EIS. The Oregon EIS will, however, identify which herbicides will be available for use in Oregon and how those herbicides will be used as part of an integrated vegetation treatment program and provide Oregon-specific environmental effects of their use. Subsequent project-specific NEPA analyses will be conducted at the field-office level before individual projects are carried out.

The BLM has initially identified the following issues for analysis in the Oregon-wide programmatic EIS:

• Effects to fish and other non-target aquatic organisms;

• Effects to water quality;

• Effects to wildlife and other non-target terrestrial organisms;

• Public and worker health and safety;

• Treatment-effectiveness; and,

• Cost-effectiveness.

Meetings

Oregon Meeting Schedule

Date and Time—Location—Key Contact

July 7, 5-7 p.m.—Baker BLM Resource Area Office, 3285 11th Street, Baker City—Mark Wilkening (541) 473-6218.

July 8, 6:30-8 p.m.—Vale BLM District Office, 100 Oregon St., Vale—Mark Wilkening (541) 473-6218.

July 9, 5:30-7 p.m.—Harney County Senior Center, 17 S. Alder Ave., Burns—Tara Martinak (541) 573-4519.

July 10, 8-10 a.m.—Lakeview BLM Office, 1301 S. “G” Street, Lakeview—Scott Stoffel (541) 947-6237.

July 10, 1:30-3:30 p.m.—Klamath Falls, 2795 Anderson Avenue, Bldg. #25, Klamath Falls—Scott Stoffel (541) 947-6237.

July 14, 6:30-8 p.m.—North Bend Public Library, 1800 Sherman Ave., North Bend—Megan Harper (541) 751-4353.

July 15, 6:30-8:30 p.m.—Medford BLM Office, 3040 Biddle Road, Medford—James Whittington (541) 618-2220.

July 16, 6:30-8 p.m.—Umpqua National Forest Supervisor's Office, 2900 Stewart Pkwy, Roseburg—Robert Hall (541) 464-3245.

July 17, 6:30-8:30 p.m.—Harris Hall, Lane Co. Building, 125 E. 8th Ave., Eugene—Doug Huntington (541) 683-6415.

July 18, 6:30-8:30 p.m.—Downtown Hilton, Director's Suite, 921 SW. 6th Ave., Portland—Maya Fuller (503) 808-6437.

July 21, 6:30-8 p.m.—Salem BLM Office, 1717 Fabry Rd. SE., Salem—Trish Hogervorst (503) 375-5657.

July 22, 6:30-8 p.m.—Saint Joseph's Parish Hall, 200 East 1st St. Prineville—Teal Purrington (541) 416-6772.

Dated: June 13, 2008.
James G. Kenna,
Associate State Director, Oregon/Washington.

[FR Doc. E8-14159 Filed 6-20-08; 8:45 am]

BILLING CODE 4310-33-P